DEPARTMENT OF COMMERCE

National Oceanic and Atmospheric Administration

50 CFR Part 679

[Docket No. 150126078-5078-01]

RIN 0648-BE85

Fisheries of the Exclusive Economic Zone Off Alaska; Revise Maximum Retainable Amounts for Skates in the Gulf of Alaska

AGENCY: National Marine Fisheries Service (NMFS), National Oceanic and Atmospheric Administration (NOAA), Commerce.

ACTION: Proposed rule; request for comments.

SUMMARY: NMFS proposes regulations to reduce the maximum retainable amount (MRA) of skates using groundfish and halibut as basis species in the Gulf of Alaska (GOA) from 20 percent to 5 percent. Reducing skate MRAs is necessary to decrease the incentive for fishermen to target skates and slow the catch rate of skates in these fisheries. This proposed rule would enhance conservation and management of skates and minimize skate discards in GOA groundfish and halibut fisheries. This proposed rule is intended to promote the goals and objectives of the Magnuson-Stevens Fishery Conservation and Management Act, the Northern Pacific Halibut Act of 1982, the Fishery Management Plan for Groundfish of the Gulf of Alaska, and other applicable laws.

DATES: Comments must be received no later than August 10, 2015.

ADDRESSES: You may submit comments on this document, identified by NOAA-NMFS-2015-0015, by any of the following methods:

• Electronic Submission: Submit all electronic public comments via the Federal e-Rulemaking Portal. Go to www.regulations.gov/#!docketDetail;D=NOAA-NMFS-2015-0015, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the draft Environmental Assessment/Regulatory Impact Review/Initial Regulatory Flexibility Analysis (collectively the “Analysis”), Alaska Groundfish Harvest Specifications Final Environmental Impact Statement (Final EIS), Supplementary Information Report (SIR) to the Final EIS, and the Initial Regulatory Flexibility Analysis (IRFA) for the Gulf of Alaska Groundfish Harvest Specifications for 2015 and 2016 (Harvest Specifications IRFA) prepared for this action are available from http://www.regulations.gov or from the NMFS Alaska Region Web site at http://alaskafisheries.noaa.gov.

FOR FURTHER INFORMATION CONTACT: Peggy Murphy, 907-586-7228.

SUPPLEMENTARY INFORMATION:

Authority for Action

NMFS manages the groundfish fisheries in the exclusive economic zone of the GOA under the Fishery Management Plan for Groundfish of the Gulf of Alaska (FMP). The North Pacific Fishery Management Council (Council) prepared the FMP under the authority of the Magnuson-Stevens Fishery Conservation and Management Act (Magnuson-Stevens Act), 16 U.S.C. 1801 et seq. Regulations governing groundfish fishing in the GOA and implementing the FMP appear at 50 CFR parts 600 and 679. The Council and NMFS manage skates (Raja and Bathyraja species) as a groundfish species under the FMP.

Background

NMFS proposes to modify regulations that specify the MRA for skates in the GOA. An MRA is the maximum amount of a species closed to directed fishing (i.e., skate species) that may be retained onboard a vessel. MRAs are calculated as a percentage of the weight of catch of each groundfish species or halibut open to directed fishing (the basis species) that is retained onboard the vessel. MRAs assist in limiting catch of a species within its annual total allowable catch (TAC). Once the TAC for a species is reached, retention of that species becomes prohibited and all catch of that species must be discarded. NMFS closes a species to directed fishing before the entire TAC is taken to leave sufficient amounts of the TAC available for incidental catch. The amount of the TAC remaining available for incidental catch is managed by a species-specific MRA. MRAs are a management tool to slow down the rate of harvest and reduce the incentive for targeting a species closed to directed fishing. NMFS has established a single MRA percentage for big skate (Raja binoculata), longnose skate (Raja rhina), and for all remaining skate species (Bathyraja spp.). The skate MRA in the GOA is set at 20 percent. The proposed rule would reduce the MRA for skates in the GOA from 20 percent to 5 percent. The reduced MRA would apply to all vessels directed fishing for groundfish species or halibut in the GOA. Under the proposed rule, the round weight of the retained skate species could be no more than 5 percent of the round weight of the basis species.

The Council recommended and NMFS proposes to reduce the skate MRA to decrease the incentive for fishermen to target skates while directed fishing for groundfish and halibut, and to slow the harvest rate of skates in GOA groundfish and halibut fisheries. Information from recent years of skate catch in directed groundfish and halibut fisheries indicates that some fishermen have maximized their retention of skates early in the year by deliberately targeting them while directed fishing for other species. Over a period of years, the TAC of big skate and longnose skate has been exceeded in the Central GOA and Western GOA, respectively. In response, NMFS has prohibited retention of skates earlier in the year to reduce incentives to target skates and maintain catch at or below the TACs established for skate species in specific GOA regulatory areas. A prohibition on retention results in mandatory discard of all skate catch for the remainder of the year.

This proposed rule would limit the amount of skates that could be retained while directed fishing for other groundfish and halibut. The proposed rule would slow the harvest rate of skates and would enhance NMFS' ability to limit the catch of skates to the skate TACs. In addition, the proposed rule is expected to minimize discards of skates by reducing the likelihood that NMFS would need to prohibit retention of a skate species in a GOA management area during the year to maintain skate catch at or below its TAC.

This proposed rule would make four amendments to regulations. First, this proposed rule would amend regulations to reduce the skate MRA for all vessels fishing for groundfish and halibut in the GOA. This proposed rule would amend regulations that establish a skate MRA for all groundfish and halibut basis species in Table 10 to 50 CFR part 679 and for the fisheries under the Central GOA Rockfish Program in Table 30 to 50 CFR part 679. Second, this proposed rule would make minor clarifications in MRA regulations applicable to the Central GOA Rockfish Program. Third, this proposed rule would make minor corrections to incorrect cross references in regulations in §§ 679.7 and 679.28. Finally, this proposed rule would revise Table 2a to 50 CFR part 679 by adding whiteblotched, Alaska, and Aleutian skates as well as the scientific names for individual skate species that were inadvertently removed by a previous rule making.

The following sections describe (1) management of skates in the GOA and the fisheries that would be affected by the rule; (2) the need for the proposed rule; and (3) the proposed rule.

Management of Skates in the GOA and the Fisheries Affected by the Proposed Rule

Management of Skates in the GOA

In the GOA, the Council and NMFS manage skates as a groundfish species under the FMP. Management of skates in the GOA is described in Section 3.1.2 of the Analysis. Big skate and longnose skate are managed as single species, and all other skate species are managed in the “other skates” species group.

GOA skate catches are managed subject to annual limits on the amounts of each species of skate, or group of skate species, that may be taken. The annual limits are defined in the FMP and referred to as “harvest specifications.” The overfishing limits (OFLs), acceptable biological catch (ABCs), and TACs for skates are specified through the annual “harvest specification process.” The FMP requires that the Council recommend and NMFS specify these annual limits for each species or species group of groundfish on an annual basis. A detailed description of the annual harvest specification process is provided in the Final EIS, the SIR, and the final 2015 and 2016 harvest specifications for groundfish of the GOA (80 FR 10250, February 25, 2015) and is briefly summarized here.

Section 3.2.1 of the FMP defines the OFL as the annual amount of catch that results whenever a stock or stock complex is subjected to a level of fishing mortality or annual total catch that jeopardizes the capacity of a stock or stock complex to produce maximum sustainable yield on a continuing basis. The OFL is the catch level above which overfishing is occurring. NMFS manages fisheries to ensure that no OFLs are exceeded in any year.

Section 3.2.1 of the FMP defines the ABC as the level of a stock or stock complex's annual catch that accounts for the scientific uncertainty in the estimate of OFL and any other scientific uncertainty. The ABC is set below the OFL.

Section 3.2.1 of the FMP defines the TAC as the annual catch target for a stock or stock complex, derived from the ABC by considering social and economic factors and management uncertainty (i.e., uncertainty in the ability of managers to constrain catch so the annual catch limit is not exceeded, and uncertainty in quantifying the true catch amount). Section 3.2.3.4.1 of the FMP requires that the TAC must be set lower than or equal to the ABC. Section 3.2.3.4.3.2 of the FMP clarifies that TACs can be apportioned by regulatory area. There are three regulatory areas specified in the GOA management area: Western GOA, Central GOA, and Eastern GOA.

Big skate and longnose skate have OFLs and ABCs defined for the GOA management area. The ABCs for big skate and longnose skate are apportioned to each of the regulatory areas in the GOA management area according to the proportion of the biomass estimated in each regulatory area. NMFS specifies TACs for big skate and longnose skate for the Western GOA, Central GOA, and Eastern GOA equal to the ABC for each of these regulatory areas. All other species of skates are assigned to the “other skates” species group. The other skates species group has an OFL and ABC, and TAC specified for the GOA management area (i.e., NMFS does not establish separate ABCs or TACs for the Western GOA, Central GOA, and Eastern GOA). NMFS does not establish regulatory area-specific ABCs or TACs for other skates because harvest is generally more broadly dispersed throughout the entire GOA, and they are not generally retained. All retained and discarded catch of skates accrues to the TACs, ABCs, and OFLs specified for the species. Additional detail on skate biomass and harvest specifications is available in Section 3.1.1 and 3.1.2 of the Analysis, respectively.

NMFS ensures that OFLs, ABCs, and TACs are not exceeded by requiring vessel operators participating in groundfish fisheries in the GOA to comply with a range of restrictions, such as area, time, gear, and operation-specific fishery closures. Regulations at § 679.20(d)(1), (d)(2), and (d)(3) describe the range of management measures that NMFS uses to maintain total catch at or below the TAC.

Regulations at § 679.20(d)(1)(i) specify that NMFS may establish a directed fishing allowance (DFA) for a species or species group when any allocation or apportionment of a target species or species group allocated or apportioned to a fishery will be reached. Regulations at § 679.20(d)(1)(ii)(B) specify that NMFS must also consider the amount of a species or species group closed to directed fishing that will be taken in directed fishing for other species when establishing a DFA. NMFS implements this provision through the annual harvest specifications process by subtracting the estimated amount of incidental catch of a species or species group taken in directed fishing for other species from the TAC of that species or species group. If an insufficient amount of TAC is available for a directed fishery for that species or species group, NMFS establishes the DFA for that species or species group as zero metric tons (mt) and, in accordance with § 679.20(d)(1)(iii), prohibits directed fishing for that species or species group.

Directed fishing for groundfish in the GOA is defined at § 679.2 as any fishing activity that results in the retention of an amount of a species or species group onboard a vessel that is greater than the MRA for that species or species group. Therefore, when directed fishing for a species or species group is prohibited, retention of the species or species group is limited to an MRA. These species are referred to as incidental catch species. NMFS established MRAs to allow vessel operators fishing for species or species groups open to directed fishing to retain a specified amount of incidental catch species.

NMFS has determined that the TACs specified for all skate species in the GOA are needed to support incidental catch of skates in other groundfish and halibut fisheries. As a result, there are insufficient TACs for these species to support directed fisheries, the DFA for skates is set to zero mt, and directed fishing for skates is prohibited at the beginning of the fishing year. When directed fishing for skates is prohibited, the catch of skates is limited by an MRA.

The skate MRA is specified by basis species in Table 10 and Table 30 to 50 CFR part 679. The skate MRA is not specified by skate species. Instead, the skate MRA is based on the combined round weight of all skate species retained onboard a vessel. A single MRA for all skates was established because fishermen and processors may have difficulty identifying skate species and may not be able to easily determine if they have reached an MRA for a specific skate species. Therefore, a separate MRA for each species would be difficult to manage and enforce. Additional detail on the designation of a single skate MRA is provided in Section 4.1 of the Analysis.

Currently, the skate MRA for all basis species in the GOA is 20 percent of the basis species round weight retained onboard a vessel. This means the maximum amount of big, longnose, and other skate species that may be retained onboard a vessel must not exceed 20 percent of the round weight of other groundfish species and halibut (basis species) retained onboard a vessel. For example, a vessel operator fishing Pacific cod, a basis species open to directed fishing, may retain big, longnose, and other skates in an amount up to 20 percent of the round weight equivalent of Pacific cod that is onboard the vessel at any point in time during a fishing trip.

Amounts of skates onboard the vessel that are below or equal to the MRA may be retained. Amounts of skates in excess of the MRA must be discarded. An MRA applies at all times and to all areas for the duration of a fishing trip (see § 679.20(e)(3)). Vessel operators may retain incidental catch species while directed fishing for other groundfish species or halibut up to the MRA percentage of the basis species retained catch until the TAC for the incidental catch species is met.

Regulations at § 679.20(d)(2) specify that if the TAC for the incidental catch species is met, NMFS will prohibit retention of the incidental catch species for the remainder of the year. Regulations at § 679.21(b) specify that if retention of a species is prohibited, the operator of each vessel engaged in directed fishing for groundfish in the GOA must return the prohibited species to the sea immediately, with a minimum of injury, regardless of its condition. Therefore, when NMFS prohibits retention of an incidental catch species, such as skates, vessel operators must discard all catch of that species. The primary purpose of requiring discards is to remove any incentive for vessel operators to increase incidental catch of the species as a portion of other fisheries and to minimize the catch of that species.

Although MRAs limit the incentive to target on an incidental catch species, fishermen can “top off” their retained groundfish and halibut catch with incidental catch species up to the maximum permitted under the MRA. Fishermen are top-off fishing when they deliberately target and retain incidental catch species up to the MRA instead of harvesting the species incidentally. Thus, MRAs reflect a balance between NMFS' need to limit the harvest rate of incidental catch species and minimize regulatory discards of the incidental catch species while providing fishermen an opportunity to harvest available incidental species TAC through limited retention.

Fisheries That Would Be Affected by the Proposed Rule

Skates are caught in the GOA primarily by vessels directed fishing for groundfish with non-pelagic trawl gear and by vessels directed fishing for groundfish and halibut with hook-and-line gear. Very limited amounts of skates are also caught by vessels using pelagic trawl, pot, and jig gear in directed groundfish fisheries in the GOA. Section 3.1.1 of the Analysis presents detailed information on GOA skate catch by species, management area, gear, and target fishery for two time periods: From 2008 through 2012, and in 2013 and 2014. This information is briefly summarized below.

Catch data are divided into these two periods, because the individual fishing quota (IFQ) halibut and small catcher vessel hook-and-line Pacific cod fisheries were largely unobserved before 2013. Data on the incidental catch of skate species from these fisheries prior to 2013 is limited or not available. In 2013, the North Pacific Groundfish Observer Program was restructured (Restructured Observer Program) and observers were deployed in the IFQ halibut fishery and on smaller vessels (77 FR 70062, November 21, 2012). As a result, new observer data on skate catch were included in NMFS' catch accounting system. The improved observer data since 2013, and information on the amount of at-sea discards of skates from the IFQ halibut fishery and smaller hook-and-line vessels, show that an increased proportion of skate catch occurs on vessels using hook-and-line gear.

Based upon NMFS' catch accounting system, big skate catch occurs primarily in the Central GOA. Less than one tenth of the catch comes from the Western GOA or the Eastern GOA. NMFS data show that from 2008 through 2012, an average of 67 percent of the big skate catch was caught by vessels using non-pelagic trawl gear and 32 percent was caught by vessels using hook-and-line gear. During 2013 and 2104, the proportion of big skate catch by vessels using non-pelagic trawl gear decreased to 54 percent, and the proportion caught by vessels using hook-and-line gear increased to 46 percent. Big skate catch by vessels using non-pelagic trawl gear occurs predominantly in the arrowtooth flounder directed fishery. Big skate catch by vessels using hook-and-line gear occurs predominantly in the Pacific cod and halibut directed fisheries. Less than 1 percent of the big skate catch was caught by vessels using other types of gear.

The analysis indicates that congregations of big skate in the spring enable catcher vessel operators using non-pelagic trawl gear and hook-and-line gear to engage in top-off fishing. NMFS groundfish landings data on big skate confirm that specific areas have higher retention of big skate when compared to other areas (see Section 3.1.3 of the Analysis).

Longnose skate are caught predominantly in the Central GOA, with more limited catch in the Eastern GOA, and the least amount of catch in the Western GOA. NMFS data show that from 2008 through 2012, an average of 53 percent of the longnose skate catch was caught by vessels using hook-and-line gear and 44 percent was caught by vessels using non-pelagic trawl gear. During 2013 and 2014, the proportion of longnose skate catch by vessels using hook-and-line gear increased to 67 percent, and the proportion of catch by vessels using non-pelagic trawl gear decreased to 31 percent. Longnose skate catch by vessels using hook-and-line gear occurs predominantly in Pacific cod, halibut, and sablefish directed fisheries. Longnose skate catch by vessels using non-pelagic trawl gear occurs predominantly in the arrowtooth flounder and flatfish directed fisheries. Approximately 2 percent of the longnose skate catch was caught by vessels using other types of gear.

Other skates are caught primarily in the Central GOA. From 2008 through 2012, an average of 78 percent of the other skate catch was caught by vessels using hook-and-line gear, and 20 percent was caught by vessels using non-pelagic trawl gear. During 2013 and 2014, the proportion of catch of other skate catch by vessels using hook-and-line gear increased to 90 percent and the proportion of catch by vessels using non-pelagic trawl gear decreased to 10 percent. Other skate catch by vessels using hook-and-line gear occurs predominantly in the Pacific cod, halibut, and sablefish directed fisheries. Other skate catch by vessels using non-pelagic trawl gear occurs predominantly in the arrowtooth and deep-water flatfish target fisheries. Less than 1 percent of the other skate catch was caught by vessels using other types of gear.

Need for the Proposed Rule

In December 2013, the Council received public testimony that the current MRA for skates in the GOA allows fishermen to deliberately target skates while ostensibly directed fishing for other groundfish or halibut. This “topping-off” pattern of maximizing skate catch up to the MRA limit of 20 percent of the basis species onboard a vessel has increased the harvest rate of skates. In recent years, skate catch has exceeded the TAC in some areas. The estimated catch of big skate exceeded the TAC in the Central GOA in 2010, 2011, 2012, and 2013, and the estimated catch of longnose skates exceeded the TAC in the Western GOA in 2009, 2010, and 2013. The catch of other skates has not exceeded the TACs established for the GOA management area; however, in 2013 and 2014, the catch of other skates was estimated at 93 percent and 98 percent of the 2013 and 2014 TACs, respectively.

When fishery managers estimated the big or longnose skate TACs would be exceeded, NMFS prohibited retention of big or longnose skates in the directed fisheries for groundfish and halibut and required discard of all big or longnose skate catch for the remainder of the calendar year. The earlier in the year that big or longnose skate retention is prohibited, the more regulatory discards of big or longnose skate can occur since groundfish and halibut fisheries will continue to catch these skates incidentally.

The Council determined and NMFS agrees that reducing the skate MRA would decrease the incentive for fishermen to engage in top-off fishing for skates and slow the harvest rate of skates to levels that more accurately reflect the rate of incidental catch of skates in the directed groundfish and halibut fisheries in the GOA. Reducing the skate MRA would slow the skate harvest rate and accrual of skate catch against the TAC. A slower harvest rate may reduce the potential that NMFS will have to prohibit skate retention to avoid exceeding a skate species' TAC. In addition, a slower harvest rate could extend skate retention throughout the year and result in lower regulatory discards of skates.

This proposed rule would help ensure that skate catch in the future does not exceed a TAC, ABC, or OFL. The Council and NMFS analyzed four alternative MRAs to reduce the incentive for fishermen to pursue top-off fishing for skates and slow the rate of skate harvest. In addition to the status quo of an MRA of 20 percent, the Council and NMFS evaluated alternatives to reduce skate MRAs to 15, 10, and 5 percent. To estimate impacts of the alternative MRAs, the Analysis considered two metrics.

First, the Analysis examined the rate of big skate catch relative to groundfish catch by directed fishery before and after big skate retention was prohibited in 2013 and 2014 (see Section 4.5.1.1 of the Analysis). The Analysis assumed that once big skate retention was prohibited by regulation, a vessel operator would not be engaging in top-off fishing for big skates if they were encountered while directed fishing for groundfish or halibut. Thus, the Analysis assumed that the relative catch rates of big skate after retention was prohibited were a reasonable estimate of the likely incidental catch rate of big skate.

The Analysis examined big skate catch rates because they are the most abundant skates in the GOA and significant proportions of big skate catches are retained compared to the catch of longnose and other skates. The 2013 and 2014 period was selected for analysis because NMFS prohibited retention of big skates in the Central GOA during these years, allowing a clear comparison of changes in catch rates after retention was prohibited. NMFS also has more complete data on big skate catch rates after 2013 due to the Restructured Observer Program.

Results from the analysis of big skate harvest rates indicate that after big skate retention was prohibited the harvest rate for big skate dropped from as much as 8.6 percent of the total groundfish and halibut catch to a harvest rate that ranged from 6.3 percent to 0.1 percent of the total groundfish and halibut catch depending on the year, gear type, and target fishery. These data indicate that participants in various target fisheries could avoid the incidental catch of big skate when there was not an incentive to retain big skates.

Second, the Analysis used a model of retained skate catch of all skate species, in all areas and by vessels using all gear types under a range of hypothetical MRAs ranging from one percent to 20 percent of the basis species. The model allowed the Council and NMFS to compare the amount of retained skate catch that would be likely under these alternative MRAs (see Section 4.5.1.4 of the Analysis).

Results from the model indicate that as the MRA becomes more restrictive, the incentive for vessel operators to engage in top-off fishing is reduced and overall skate catch may be reduced as fishermen avoid areas where skates are encountered. The model estimated that a reduction in the skate MRA ranging from 20 percent to 10 percent would have relatively limited impacts on the amount of GOA skates that are retained relative to the current 20 percent MRA. Therefore, NMFS expects reducing the MRA to 15 or 10 percent would not result in a significantly lower catch rate of GOA skates. The model indicates that reducing the skate MRA below 10 percent would be expected to result in more limited top-off fishing and lower overall catch of skates. The model indicates that a 5 percent MRA would best ensure that NMFS did not have to prohibit the retention of skates and that skate TACs would not be exceeded.

In December 2014, following public comment and input from its advisory bodies, the Council unanimously recommended reducing the MRA for skates from 20 percent to 5 percent for all basis species in the GOA. Overall, reducing the skate MRA would primarily affect vessel operators who retained big skate at an amount greater than 5 percent of their basis species in the Central GOA. Reducing the skate MRA to 5 percent would have the greatest effect on vessels retaining big skates in the Central GOA because big skate catches have consistently exceeded the big skate TAC in the Central GOA, and data indicate that vessel operators can and do engage in topping-off for big skates. This proposed rule would have a relatively limited impact on vessel retention of longnose and other skates given these species have not been found to congregate like big skates and are not currently subject to the same patterns of top-off fishing. This proposed rule is not likely to have significant impacts on the conservation or management of groundfish or halibut in the GOA because this proposed rule would only limit the amount of skates that may be retained.

This proposed rule would affect all catcher vessels and catcher/processors directed fishing for groundfish and halibut in the GOA that may harvest any species of skate. Section 4.6.1.1 of the Analysis estimates the annual revenue at risk for all catcher vessels and catcher/processors that could be affected by this proposed rule at $2.4 million. However, the impact relative to each vessel that retains skates in the GOA is quite small. Analysis of the gross revenue data for vessels that retained GOA skates indicates that from 2008 through 2013 the average percentage of annual gross revenue derived from skate catch by catcher vessels ranged between 0.7 percent and 1.28 percent of their total annual gross revenue; the average percentage of annual gross revenue derived from skate catch by catcher/processors ranged between 0.26 percent and 0.77 percent of their total annual gross revenue (see Section 4.6.1.1 of the Analysis). In general, vessels that catch and retain skates show relatively little dependence on GOA skates for their gross revenues. The actual impact on gross revenue for a specific vessel may vary from year to year depending on the total abundance of skates, total catch of skates, market conditions, and ex-vessel price. Section 4.5.1.4 of the Analysis describes the effect of the 5 percent MRA on specific vessel operations in greater detail.

The impact of this proposed rule on communities is discussed in Section 4.6.2 of the Analysis. Impacts would be most pronounced on Kodiak, AK, where, from 2008 through 2014, 87 percent to 93 percent of skates retained by catcher vessels were delivered. Kodiak accounted for between 84 percent and 91 percent of the first wholesale value of shoreside skate processing in Alaska, which ranged between $3.2 and $5.1 million annually. Skates accounted for between 0.98 percent and 1.38 percent of the first wholesale value of production at Kodiak.

Although this proposed rule could limit the total amount of skates delivered, it is also possible that skate deliveries would continue under the 5 percent MRA, but would be distributed throughout the year provided a TAC limit is not reached. Therefore, the impact on total landings on any community may be limited. Communities in the State of Alaska where skates and processed skate products are landed may realize lower tax revenues from the State of Alaska Fisheries Business Tax and Fishery Resource Landing Tax, but only if total skate landings decline.

Proposed Rule

This proposed rule would make four changes to the regulations. First, this proposed rule would revise skate MRAs in Table 10 to 50 CFR part 679, Gulf of Alaska Retainable Percentages, and in Table 30 to 50 CFR part 679, Rockfish Program Retainable Percentages. NMFS would reduce the incidental catch species MRAs for skates for each basis species listed in Tables 10 and 30 from 20 percent to 5 percent. NMFS notes the basis species termed “Aggregated amount of non-groundfish species” includes all legally retained IFQ halibut as explained in footnote 12 to Table 10. If the proposed reductions in skate MRAs are approved, then skate MRAs would be set equal to 5 percent in Tables 10 and 30 on the effective date of the final rule.

Second, this proposed rule would correct two regulatory cross-reference errors. These errors resulted from reorganizing and renumbering the Federal Fisheries Permit requirements in § 679.4(b) and were implemented in a final rule published on October 21, 2014 (79 FR 62885). Current regulations at § 679.7(a)(18) and § 679.28(f)(6)(i) incorrectly refer to the FFP requirements at § 679.4(b)(5)(vi), a paragraph that no longer exists. This proposed rule would correct those cross references to § 679.4(b).

Third, this proposed rule would modify regulatory text to clarify that a vessel fishing under a Rockfish Program cooperative quota (CQ) permit may harvest groundfish species not allocated as CQ up to the MRA for that species as established in Table 30 to 50 CFR part 679. This proposed rule would remove the last sentence in regulations at § 679.20(f)(2), because the sentence makes an incorrect statement. The heading in the last column in Table 30 correctly states that the MRA for vessels fishing under the Rockfish Program is calculated as “a percentage of total retained rockfish primary species and rockfish secondary species”. This proposed rule would correct this discrepancy by removing the last sentence of § 679.20(f)(2). The current regulations at § 679.81(h)(4)(i) and (h)(5) use the term “incidental catch species” in the calculation of an MRA to refer to “groundfish species not allocated as cooperative quota (CQ).” This proposed rule would add the referenced text to § 679.81(h)(4)(i) and (h)(5) to ensure consistent use of terminology in the regulations.

Fourth, this proposed rule would revise Table 2a to 50 CFR part 679 to add whiteblotched, Alaska, and Aleutian skates, as well as the scientific names for individual skate species. Adding these individual skate species and the scientific names would facilitate the reporting of individual skate species taken during groundfish harvest and provides more detailed information regarding skate harvests for stock assessments and fisheries management. This revision would support managing skates as a target species group or as individual target species. These skate species and scientific names were added to Table 2a in final regulations implementing changes to groundfish management in the BSAI and GOA on October 6, 2010 (75 FR 61639). Subsequent regulations published on July 11, 2011 (76 FR 40628), amended Table 2a to 50 CFR part 679 and that revision inadvertently removed the skate species codes implemented on October 6, 2010. The proposed addition of these skate species and scientific names would correct this error that was noticed during the preparation of this proposed rule. The proposed addition of species codes does not change the management of skates or the other provisions of this proposed rule.

Classification

Pursuant to sections 304 (b)(1)(A) and 305(d) of the Magnuson-Stevens Act, the NMFS Assistant Administrator has determined that this proposed rule is consistent with the FMP, other provisions of the Magnuson-Stevens Act, and other applicable law, subject to further consideration after public comment.

This proposed rule has been determined to be not significant for purposes of Executive Order 12866.

Initial Regulatory Flexibility Analysis

NMFS prepared an Initial Regulatory Flexibility Analysis (IRFA) as required by section 603 of the Regulatory Flexibility Act (RFA). The IRFA describes the economic impact this proposed rule, if adopted, would have on small entities. A copy of the Analysis is available from NMFS (see ADDRESSES). A summary of the IRFA follows. A description of the proposed rule, why it is being considered, and the legal basis for this proposed rule are contained elsewhere in the preamble, and are not repeated here.

This proposed rule, a reduction in GOA skate MRAs, directly regulates all entities fishing for groundfish and halibut in the GOA that have the potential to catch any species of skate. These entities operate vessels that are directly regulated by the GOA groundfish harvest specifications.

On June 12, 2014, the Small Business Administration issued an interim final rule revising the small business size standards for several industries effective July 14, 2014 (79 FR 33647, June 12, 2014). The rule increased the size standard for Finfish Fishing from $19.0 million to $20.5 million. The new size standards were used to prepare the IRFA for this proposed rule.

The IRFA estimates that this proposed rule would directly regulate 1,153 small entities. Of these small entities, the IRFA estimates that this proposed rule would directly regulate 1,073 small catcher vessels fishing with hook-and-line gear (including jig gear), 116 small catcher vessels fishing with pot gear, and 32 small catcher vessels fishing with trawl gear. In addition, this proposed rule would directly regulate 2 small catcher/processors fishing with hook-and-line gear, and one small catcher/processor fishing with trawl gear. Specific revenue data for these small catcher/processors are confidential but are less than $20.5 million annually. The IRFA estimates that the average gross revenues for 2013 (the most recent year of complete revenue data) are $380,000 for small hook-and-line catcher vessels, $960,000 for small pot catcher vessels, and $2.8 million for small trawl catcher vessels.

This proposed rule does not create new recordkeeping and reporting requirements, or alter existing requirements.

The IRFA prepared for this proposed rule has not identified Federal rules that duplicate, overlap, or conflict with the preferred alternative (a 5 percent MRA).

An IRFA should include a description of any significant alternatives to the proposed rule that accomplish the stated objectives, are consistent with applicable statutes, and that would minimize the significant economic impact of the proposed rule on small entities.

The Council and NMFS considered four alternatives in the development of this proposed rule. This proposed rule would implement Alternative 4, a 5 percent skate MRA. The significant alternatives to this proposed rule are Alternatives 1, 2, and 3, a 20 percent, 15 percent, and 10 percent skate MRA, respectively. As discussed in Section 4.7 and 4.8 of the Analysis, these proposed alternatives are not expected to reduce the incentive for fishermen to target and retain skates and thus, would not accomplish the objectives of this proposed rule—to slow the harvest rate of skates that may be incidentally retained to ensure that the TACs for skate species are not exceeded. The Analysis did not identify any other alternatives that would more effectively meet the RFA criteria to minimize adverse economic impacts on directly regulated small entities.

List of Subjects in 50 CFR Part 679

Alaska, Fisheries.

Dated: July 7, 2015.
Samuel D. Rauch III,
Deputy Assistant Administrator for Regulatory Programs, National Marine Fisheries Service.

For the reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.7, revise paragraph (a)(18) to read as follows:

§ 679.7 Prohibitions.

* * * * *

(a) * * *

(18) Pollock, Pacific Cod, and Atka Mackerel Directed Fishing and VMS. Operate a vessel in any Federal reporting area when a vessel is authorized under § 679.4(b) to participate in the Atka mackerel, Pacific cod, or pollock directed fisheries and the vessel's authorized species and gear type is open to directed fishing, unless the vessel carries an operable NMFS-approved Vessel Monitoring System (VMS) and complies with the requirements in § 679.28(f).

* * * * *

3. In § 679.20, revise paragraph (f)(2) to read as follows:

§ 679.20 General limitations.

* * * * *

(f) * * *

(2) Retainable amounts. Any groundfish species for which directed fishing is closed may not be used to calculate retainable amounts of other groundfish species. Only fish harvested under the CDQ Program may be used to calculate retainable amounts of other CDQ species.

* * * * *

4. In § 679.28, revise paragraph (f)(6)(i) to read as follows:

§ 679.28 Equipment and operational requirements.

* * * * *

(f) * * *

(6) * * *

(i) You operate a vessel in any reporting area (see definitions at § 679.2) off Alaska while any fishery requiring VMS, for which the vessel has a species and gear endorsement on its Federal Fisheries Permit under § 679.4(b), is open.

* * * * *

5. In § 679.81, revise paragraphs (h)(4)(i) and (h)(5) introductory text to read as follows:

§ 679.81 Rockfish Program annual harvester privileges.

* * * * *

(h) * * *

(4) * * *

(i) The MRA for groundfish species not allocated as CQ (incidental catch species) for vessels fishing under the authority of a CQ permit is calculated as a proportion of the total allocated rockfish primary species and rockfish secondary species on board the vessel in round weight equivalents using the retainable percentage in Table 30 to this part; except that—

* * * * *

(5) Maximum retainable amount (MRA) calculation and limits—catcher/processor vessels. The MRA for groundfish species not allocated as CQ (incidental catch species) for vessels fishing under the authority of a CQ permit is calculated as a proportion of the total allocated rockfish primary species and rockfish secondary species on board the vessel in round weight equivalents using the retainable percentage in Table 30 to this part as determined under § 679.20(e)(3)(iv).

* * * * *

6. Revise Table 2a to part 679 to read as follows:

Table 2a to Part 679—Species Codes: FMP Groundfish
Species description | Code
Atka mackerel (greenling) | 193
Flatfish, miscellaneous (flatfish species without separate codes) | 120
FLOUNDER:
Alaska plaice | 133
Arrowtooth | 121
Bering | 116
Kamchatka | 117
Starry | 129
Octopus, North Pacific | 870
Pacific cod | 110
Pollock | 270
ROCKFISH:
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. variabilis) | 172
Greenstriped (S. elongatus) | 135
Harlequin (S. variegatus) | 176
Northern (S. polyspinis) | 136
Pacific Ocean Perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS:
Other (if salmon, spiny dogfish or Pacific sleeper shark—use specific species code) | 689
Pacific sleeper | 692
Salmon | 690
Spiny dogfish | 691
SKATES:
Whiteblotched (Bathyraja maculata) | 705
Aleutian (B. aleutica) | 704
Alaska (B. parmifera) | 703
Big (Raja binoculata) | 702
Longnose (R. rhina) | 701
Other (if Whiteblotched, Aleutian, Alaska, Big or Longnose skate—use specific species code listed above) | 700
SOLE:
Butter | 126
Dover | 124
English | 128
Flathead | 122
Petrale | 131
Rex | 125
Rock | 123
Sand | 132
Yellowfin | 127
Squid, majestic | 875
Turbot, Greenland | 134

7. Revise Table 10 to part 679 to read as follows:

8. Revise Table 30 to part 679 to read as follows:

Table 30 to Part 679—Rockfish Program Retainable Percentages
[In round wt. equivalent]
Fishery | Incidental catch species | Sector | MRA as a percentage of total retained rockfish primary species and rockfish secondary species
Rockfish Cooperative Vessels fishing under a CQ permit | Pacific cod Shortraker/Rougheye aggregate catch | Catcher/Processor Catcher Vessel | 4.0 2.0
| See rockfish non-allocated species for “other species”
Rockfish non-allocated Species for Rockfish Cooperative vessels fishing under a Rockfish CQ permit | Pollock Deep-water flatfish Rex sole | Catcher/Processor and Catcher Vessel Catcher/Processor and Catcher Vessel Catcher/Processor and Catcher Vessel | 20.0 20.0 20.0
| Flathead sole | Catcher/Processor and Catcher Vessel | 20.0
| Shallow-water flatfish | Catcher/Processor and Catcher Vessel | 20.0
| Arrowtooth flounder | Catcher/Processor and Catcher Vessel | 35.0
| Other rockfish | Catcher/Processor and Catcher Vessel | 15.0
| Atka mackerel | Catcher/Processor and Catcher Vessel | 20.0
| Aggregated forage fish | Catcher/Processor and Catcher Vessel | 2.0
| Skates | Catcher/Processor and Catcher Vessel | 5.0
| Other species | Catcher/Processor and Catcher Vessel | 20.0
Longline gear Rockfish Entry Level Fishery | See Table 10 to this part.
Opt-out vessels | See Table 10 to this part.
Rockfish Cooperative Vessels not fishing under a CQ permit | See Table 10 to this part.

[FR Doc. 2015-16935 Filed 7-9-15; 8:45 am]

BILLING CODE 3510-22-P